DEPARTMENT OF HOMELAND SECURITY

Coast Guard

33 CFR Parts 110 and 165

[CGD07-04-090]

RIN 1625-AA11, 1625-AA87, 1625-AA01

Regulated Navigation Areas, Security Zones, and Temporary Anchorage Areas; St. Johns River, Jacksonville, FL

AGENCY: Coast Guard, DHS.

ACTION: Notice of proposed rulemaking.

SUMMARY: The Coast Guard proposes to establish a series of temporary regulated navigation areas, security zones and temporary anchorage areas on the St. Johns River, Jacksonville, FL, from Winter Point to the Intracoastal Waterway, for Super Bowl XXXIX activities and events. The river will be divided into two regulated navigation areas and four security zones in order to provide increased layered security in close proximity to the downtown area of the river. Additionally, the size of existing fixed security zones around docked cruise ships will be increased. Existing anchorage grounds will be modified and temporary anchorages will be added to accommodate the vessel traffic expected during the Super Bowl events. The regulated navigation areas, security zones and temporary anchorages are necessary to protect national security interests and the safety of navigation during Super Bowl events. These areas will be enforced at various designated time periods beginning February 2, 2005, through February 7, 2005. Entry into the security zones will be prohibited to all persons and vessels unless authorized by the Coast Guard Captain of the Port Jacksonville or his designated representatives.

DATES: Comments and related material must reach the Coast Guard on or before January 10, 2005.

ADDRESSES: You may mail comments and related material to Coast Guard Marine Safety Office Jacksonville, 7820 Arlington Expressway, Suite 400, Jacksonville, FL, 32211. Coast Guard Marine Safety Office Jacksonville maintains the public docket for this rulemaking. Comments and material received from the public, as well as documents indicated in this preamble as being available in the docket, will become part of this docket and will be available for inspection or copying at Coast Guard Marine Safety Office Jacksonville, 7820 Arlington Expressway, Suite 400, Jacksonville, FL, 32211, between 8 a.m. and 4 p.m., Monday through Friday, except Federal Holidays.

FOR FURTHER INFORMATION CONTACT: Lieutenant James Tedtaotao at Coast Guard Marine Safety Office Jacksonville, FL, tel: (904) 232-2640 ext 111.

SUPPLEMENTARY INFORMATION:

Request for Comments

We encourage you to participate in this rulemaking by submitting comments and related material. If you do so, please include your name and address, identify the docket number for this rulemaking (CGD07-04-090), indicate the specific section of this document to which each comment applies, and give the reason for each comment. Please submit all comments and related material in an unbound format, no larger than 8½ by 11 inches, suitable for copying. If you would like to know that your submission reached us, please enclose a stamped, self-addressed postcard or envelope. We will consider all comments and material received during the comment period. We may change this proposed rule in view of them.

If, as we anticipate we make this temporary final rule effective less than 30 days after publication in the Federal Register, we will explain in that publication, as required by 5 U.S.C. (d)(3), our good cause for doing so.

Public Meeting

We do not plan to hold a public meeting. The United States Coast Guard, along with other state and federal law enforcement agencies, has conducted numerous outreach meetings with port users and the affected maritime community regarding port restrictions. However, you may submit a request for a meeting by writing to Coast Guard Marine Safety Office Jacksonville at the address under ADDRESSES explaining why one would be beneficial. If we determine that one would aid this rulemaking, we will hold one at a time and place announced by a separate notice in the Federal Register.

Background and Purpose

In light of terrorist attacks on New York City and the Pentagon in Arlington, VA, on September 11, 2001, and the continuing concern for future terrorist and or subversive acts against the United States, especially at high visibility events where a large number of persons are likely to congregate, the Coast Guard proposes to establish temporary regulated navigation areas and security zones in certain waters of the St. Johns River.

The Super Bowl is a sporting event, hosted each year in a different city in the United States, sponsored by the National Football League (NFL). Super Bowl XXXIX will be held in Jacksonville, FL, on Sunday, February 6, 2005, at ALLTEL Stadium. Security measures for Super Bowl XXXIX and the events preceding it, including temporary regulated navigation areas, security zones and anchorages proposed herein, are necessary from February 2, 2005, to February 7, 2005, and are needed to safeguard the maritime transportation infrastructure, the public, and designated participants from potential acts of violence or terrorism during Super Bowl XXXIX activities.

The planning for these regulated navigation areas and security zones has been conducted in conjunction with federal, state and local law enforcement agencies. There is significant national security interest during the Super Bowl in protecting the waterways surrounding downtown Jacksonville, cruise ships, nearby vessels, and the public from destruction, loss, or injury from sabotage or other subversive acts, accidents or other causes of a similar nature.

These proposed regulations include amends of existing security zones established at 33 CFR 165.759 to increase the fixed security zones around cruise ships docked at the Talleyrand Marine Terminal and the Jacksonville Cruise Ship Passenger Terminal from 100 yards to 400 yards.

These proposed regulations also amend existing anchorage regulations established at 33 CFR 110.183 by removing Anchorage A, modifying Anchorage B, and establishing various temporary anchorages marked by buoys. Some of the temporary anchorages will be exclusively for use by small recreational vessels and others will be for larger recreational vessels and commercial vessels.

Discussion of Proposed Rule

The Coast Guard proposes to establish regulated navigation areas and security zones on the St. Johns River, Jacksonville, FL, to include the waters from Winter Point to the Intracoastal Waterway. The regulated navigation areas and security zones are necessary to protect national security interests during Super Bowl XXXIX and for the safety of navigation on the waterway.

Temporary regulated navigation areas are proposed from Wednesday, February 2, 2005, commencing at 6 a.m. (EST) until Monday, February 7, 2005 at 6 p.m. (EST) for: (1) Winter Point to the Matthews Bridge and (2) the Matthews Bridge to St. Johns Bluff Reach.

All vessels entering the regulated navigation areas must comply with orders from the Coast Guard Captain of the Port, Jacksonville, Florida, or that officer's designated representatives, and accordingly regulate their course, direction and movements within the regulated navigation areas. Vessels must exercise continuous transit at minimum safe speed while within 400 yards of the federal channel as marked by buoys and day boards.

The public will be reminded of the locations and effective periods of the regulated navigation areas, security zones and temporary anchorage regulations by a local notice to mariners. No commercial vessels will be permitted to anchor between the Fuller Warren Bridge and the Matthews Bridge.

In addition to the regulated navigation areas described as (1) and (2), the following temporary security zones described as (3), (4), (5) and (6) are proposed for the waters of the St. Johns River. Security Zone (3): the waters between the Fuller Warren Bridge and the Matthews Bridge to be enforced Friday, February 4, 2005, beginning at 11:59 p.m. (EST) until Monday, February 7, 2005, at 3 a.m. (EST). Vessel operators entering the security zone outlined as (3) must receive express permission from local, state or federal enforcement personnel designated by the Captain of the Port; not transport or possess certain dangerous cargo as defined in 33 CFR 160.204; and not operate or place in the water jet skis or other motorized personal watercraft at any time while this security zone, or security zones (4), (5) and (6) are in effect. Vessel operators may not enter or remain in the security zone outlined as (3) without completing a satisfactory security screening.

Security Zones (4), (5) and (6) are smaller zones located geographically within security zone (3) which will be enforced at various times and present additional restrictions. Security zone (4): a 25-yard zone (entry prohibited without prior approval by the Captain of the Port or his designated representatives) around the passenger terminals at JEA Park and the Transportation Hub, to be enforced Wednesday, February 2, 2005, commencing at 6 a.m. (EST) until Monday, February 7, 2005, at 11:59 a.m. (EST).

Security zone (5): A “no move” zone (in addition to permission to enter the zone, all vessels will be required to obtain approval by the Captain of the Port or his designated representatives prior to getting underway from the pier or anchorage, including vessels which previously received permission to enter the zone) on the north bank of the St. Johns River from the Main Street Bridge to the Hart Bridge, extending 25 yards offshore, to be enforced Sunday, February 6, 2005, beginning at 11:59 a.m. (EST) until Monday, February 7, 2005 at 3 a.m. (EST).

Security zone (6): Restricts entry into the zone without prior approval by the Captain of the Port or his designated representatives, north bank to south bank, between JEA Park and the Transportation Hub, to be enforced Sunday, February 6, 2005, from 11:59 a.m. (EST) until Monday, February 7, at 3 a.m. (EST).

The temporary security zones described as (3), (4), (5) and (6) prohibit the transport or possession on vessels of certain dangerous cargo as defined in 33 CFR 160.204.

Regulations currently exist at 33 CFR 165.759 which establish 100 yard moving security zones around all cruise ships entering or departing the Port of Jacksonville, Florida. Fixed security zones are established 100 yards around all cruise ships docked in the Port of Jacksonville. This proposed regulation temporarily suspends these security zones and replaces them with a 400 yard security zone for all cruise ships docked at the Talleyrand Marine Terminal and Jacksonville Cruise Ship Passenger Terminal to be enforced Wednesday, February 2, 2005, commencing at 6 a.m. (EST) until Monday, February 7, 2005, at 11:59 p.m. (EST).

These proposed regulations also amend existing anchorage regulations established at 33 CFR 110.183 which regulate the anchoring of vessels on the St. Johns River from the Main Street Bridge to the ocean. The rule proposes to amend the regulations to temporarily close Anchorage A and reduce the size of Anchorage B. Further, anchoring anywhere between the Fuller Warren Bridge and the Matthews Bridge will be limited to recreational vessels 40 feet or less in length within marked areas to be identified by temporary buoys. Rafting of vessels outboard of one another in these marked areas will be limited to 20 rafted vessels. Anchorage B will be reduced in size and will retain its existing restrictions. In addition to anchoring availability in Anchorage B, recreational vessels in excess of 40 feet in length and commercial vessels may seek Captain of the Port permission to anchor north of the Matthews Bridge within marked areas to be identified by temporary buoys. The Captain of the Port Jacksonville, Florida, will continue to notify the maritime community of the periods during which the regulated navigation areas and security zones will be effective. Broadcast notifications will be made to the maritime community advising them of the boundaries of these zones.

BILLING CODE 4910-15-P

BILLING CODE 4910-15-C

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. Although the regulated navigation areas apply to a large section of the St. Johns River, traffic will be allowed to pass through the zones with the permission of the Captain of the Port Jacksonville or his designated representatives. Additionally, the Coast Guard has consulted with industry representatives to obtain concurrence with the proposed rule and has attended public meetings with recreational boaters to discuss impact of the proposed rule. Before the effective period, the Coast Guard will issue maritime advisories widely available to users of the river.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: the owners or operators of vessels intending to transit or anchor in portions of the St. Johns River at various times between February 2, 2005 and February 7, 2005.

These regulations would not have a significant economic impact on a substantial number of small entities for the following reasons. Each area, zone or anchorage restriction in this rule will only be in effect for a limited duration. With the exception of vessels carrying certain dangerous cargo as defined in 33 CFR 160.204, vessels will still be allowed to transit after obtaining authorization from the Captain of the Port or his designated representatives. All vessels carrying certain dangerous cargo as defined in 33 CFR 160.204 will be prohibited from transiting the security zones. Based upon consultation with local industry representatives it has been determined there is no regular traffic of such vessels on the St Johns River through the area of the anticipated security zones and no such traffic is expected.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact Lieutenant James Tedtaotao at the address listed in ADDRESSES above. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraphs (34)(f) and (g), of the Instruction, from further environmental documentation. As anchorage regulations, regulated navigation areas and security zones, the proposed rules satisfy the requirements of paragraphs 34(f) and (g).

Under figure 2-1, paragraphs (34)(f) and (g) of the Instruction, an “Environmental Analysis Check List” and a “Categorical Exclusion Determination” are not required for this rule. Comments on this section will be considered before we make the final decision on whether to categorically exclude this rule from further environmental review.

List of Subjects

33 CFR Part 110

Anchorage grounds.

33 CFR Part 165

Harbors, Marine safety, Navigation (water), Reporting and recordkeeping requirements, Security measures, Waterways.

For the reasons discussed in the preamble, the Coast Guard proposes to amend 33 CFR parts 110 and 165 as follows:

PART 110—ANCHORAGE REGULATIONS

1. The authority citation for part 110 continues to read as follows:

Authority: 33 U.S.C. 471, 1221 through 1236, 2030, 2035, and 2071; 33 CFR 1.05-1(g; Department of Homeland Security Delegation No. 0170.1.

2. From 6 a.m.(EST) on February 2, 2005 until 11:59 p.m. (EST) on February 7, 2005, in § 110.183, paragraphs (a) and (b) are suspended in their entirety and new paragraphs (c), (d) and (e) are added to read as follows:

§ 110.183 St. Johns River, Florida.

* * * * *

(c) Anchorage B. (Lower Anchorage) The Anchorage is established within the following coordinates, the area enclosed by a line starting at a point on the eastern shore of the river at ‘Floral Bluff’ at 30°21′00″ N, 081°36′41″ W; thence to 30°20′50″ N, 081°37′08″ W in vicinity of buoy G″75″; thence to 30°21′50″ N, 081°36′56″ W; thence to 30°21′54″ N, 081°36′48″ W; thence returning to the point of beginning.

(d) Regulations. (1) Except in case of emergency, only vessels meeting the conditions of this paragraph will be authorized by the Captain of the Port to anchor in Anchorage B. Vessels unable to meet any of the following restrictions must obtain specific authorization from the Captain of the Port prior to anchoring in Anchorage B.

(2) All vessels intending to enter and anchor in Anchorage B must notify the Captain of the Port prior to entering.

(3) Anchorage B is a temporary anchorage. Additionally, Anchorage B is used as a turning basin. Vessels may not anchor for more than 24 hours without specific written authorization from the Captain of the Port.

(4) All vessels at anchor must maintain a watch on VHF-FM channels 13 and 16 by a person fluent in English, and must make a security broadcast on channel 13 upon anchoring and every 4 hours thereafter.

(5) Anchorage B is restricted to vessels with a draft of 24 feet or less, regardless of length.

(6) Any vessel transferring petroleum products within Anchorage B must have a pilot or Docking Master aboard, and employ sufficient assist tugs to assure the safety of the vessel at anchor and any vessels transiting the area.

(7) Any vessel over 300 feet in length within Anchorage B must have a pilot or Docking Master onboard, and employ sufficient assist tugs to assure the safety of the vessel at anchor and any vessels transiting the area.

(e) Temporary anchorages. (1) Five temporary anchorage areas will be established in the waters of the St. Johns River between the Fuller Warren Bridge and the southern end of Anchorage B to exclusively accommodate recreational vessels, 40 feet in length or less, for various events during the effective period. Vessels must seek authorization from the Captain of the Port prior to anchoring. Up to twenty recreational vessels may raft outboard of one another. Buoys will mark all temporary anchorage areas.

(2) Several temporary anchorage areas will be established in the waters north of the Matthews Bridge to accommodate larger recreational vessels and commercial vessels. Buoys will mark all temporary anchorage areas.

PART 165—REGULATED NAVIGATION AREAS AND LIMITED ACCESS AREAS

3. The authority citation for part 165 continues to read as follows:

Authority: 33 U.S.C. 1226, 1231; 46 U.S.C. Chapter 701; 50 U.S.C. 191, 195; 33 CFR 1.05-1(g), 6.04-1, 6.04-6, and 160.5; Pub L. 107-295, 116 Stat. 2064; Department of Homeland Security Delegation No. 0170.1.

4. From February 2, 2005, at 6 a.m. (EST) until February 7, 2005, at 11:59 p.m. (EST) in § 165.759, paragraph (a) is suspended and a new paragraph (e) is added to read as follows:

§ 165.759 Security Zones; Ports of Jacksonville, Fernandina, and Canaveral, Florida.

* * * * *

(e) Regulated area. (1) Moving Security zones are established around all tank vessels, cruise ships, and military pre-positioned ships during transits entering or departing the ports of Jacksonville, Fernandina, and Canaveral, Florida. These moving security zones are activated when the subject vessels pass the St. Johns River Sea Buoy, at approximate position 30°23′35″ N, 81°19′08″ W, when entering the port of Jacksonville, or pass port Canaveral Channel Entrance Buoys #3 or #4, at respective approximate positions 28°22.7′ N, 80°31.8′ W, and 28°23.7′ N, 80°29.2′ W when entering Port Canaveral. Fixed security zones are established 100 yards around all tank vessels and military pre-positioned ships docked in the Ports of Jacksonville, Fernandina, and Canaveral, Florida.

(2) Fixed security zones are established 100 yards around all cruise ships docked in the Ports of Jacksonville, Fernandina, and Canaveral, Florida except for security zones around vessels docked at the Talleyrand Marine Terminal and the Jacksonville Cruise Ship Passenger Terminal in the Port of Jacksonville that extend 400 yards around cruise ships.

5. Temporarily add § 165.T07-090 to read as follows:

§ 165.T07-090 Regulated Navigation Areas and Security Zones; St. Johns River, Jacksonville, FL.

(a) Locations—(1) Regulated navigation area; Winter Point to the Matthews Bridge—(i) Area. All waters, shore-to-shore and surface to bottom, between an imaginary line drawn between Winter Point (30°18′36″ N, 81°40′36″ W), south through Winter Point Light 1 (30°17′48″ N, 81°40′24″ W) to Point La Vista (30°16′42″ N, 81°39′48″ W), and the Matthews bridge, excluding the waters of the Arlington River east of an imaginary line between 30°19′12″ N, 81°36′42″ W and 30°19′00″ N, 81°36′48″ W.

(ii) Enforcement period. The regulated navigation area in paragraph (a)(1)(i) will be enforced from 6 a.m. on February 2, 2005, until 6 p.m. on February 7, 2005.

(2) Regulated navigation area; St. Johns River, Matthews Bridge to St. Johns Bluff Reach—(i) Area. All waters, surface to bottom, and bank to bank, within the St. Johns River from the Matthews Bridge to an imaginary line between the south bank of the Trout River at 30°23′06″ N, 81°38′00″ W and 30°23′06″ N, 81°37′18″ W, and within 400 yards of the Federal Channel of the St. Johns River, as visually marked by buoys and day boards, including around both sides of Blount Island, from an imaginary line between the south bank of the Trout River at 30°23′06″ N, 81°38′00″ W and 30°23′06N″, 81°37′18″ W, to an imaginary line at the front range light of the Fulton Cutoff Range between 30°23′36″ N, 81°30′06″ W south to 30°23′12″ N, 81°30′06″ W.

(ii) Enforcement period. The regulated navigation area in paragraph (a)(2)(i) will be enforced from 6 a.m. on February 2, 2005, until 6 a.m. on February 7, 2005.

(3) Security Zone, St. Johns River, Fuller Warren Bridge to the Matthews Bridge—(i) Area. All waters shore-to-shore and surface to bottom of the St. Johns River, between the Fuller Warren Bridge and the Matthews Bridge excluding the waters of the Arlington River east of an imaginary line between 30°19′12″ N, 81°36′42″ W and 30°19′00″ N, 81°36′48″ W.

(ii) Enforcement period. The security zone in paragraph (a)(3)(i) will be enforced from 11:59 p.m. on February 4, 2005, until 3 a.m. on February 7, 2005.

(4) Security Zone, St. Johns River, Passenger terminals at JEA Park and the Transportation Hub— (i) Area. All waters extending 25 yards into the river and following the contour of the southern bank of the river between 30°19.04′ N, 081°38.59′ W and 30°18.53′ N, 081°38.40′ W, and all waters extending 25 yards into the river and following the contour of the northern bank of the river between 30°19.16′ N, 081°38.50′ W and 30°19.16′ N, 081°38.41′ W.

(ii) Enforcement period. The security zone in paragraph (a)(4)(i) will be enforced from 6 a.m. on February 2, 2005, until 11:59 a.m. on February 7, 2005.

(5) Security Zone, St. Johns River, Main Street Bridge to the Hart Bridge—(i) Area. All waters extending 25 yards into the river and following the contour of the northern bank of the river, between the Main Street Bridge and the Hart Bridge.

(ii) Enforcement period. The security zone in paragraph (a)(5)(i) will be enforced from 11:59 a.m. on February 6, 2005 until 3 a.m. on February 7, 2005.

(6) Security Zone, St. Johns River, JEA Park to the Transportation Hub.—(i) Area. All waters within the perimeter of the following: originating at 30°19.04′ N, 081°38.59′ W then north to 30°19.16′ N, 081°38.50′ W, then east following the contour of the northern bank of the river to 30°19.16′ N, 081°38.41′ W, then south to 30°18.53′ N, 081°38.40′ W, and west following the contour of the south bank of the river to the origin at 30°19.04′ N, 081°38.59′ W.

(ii) Enforcement period. The security zone in paragraph (a)(6)(i) will be enforced from 11:59 a.m. on February 6, 2005 until 3 a.m. on February 7.

(b) Definitions. The following definitions apply to this section.

Designated representatives means Coast Guard Patrol Commanders including Coast Guard coxswains, petty officers and other officers operating Coast Guard vessels, and federal, state, and local officers designated by or assisting the Captain of the Port (COTP), Jacksonville, Florida, in the enforcement of the regulated navigation areas and security zones.

Minimum safe speed means the speed at which a vessel proceeds when it is fully off plane, completely settled in the water and not creating excessive wake. Due to the different speeds at which vessels of different sizes and configurations may travel while in compliance with this definition, no specific speed is assigned to minimum safe speed. In no instance should minimum safe speed be interpreted as a speed less than that required for a particular vessel to maintain steerageway. A vessel is not proceeding at minimum safe speed if it is:

(1) On a plane;

(2) In the process of coming up onto or coming off a plane; or

(3) Creating an excessive wake.

Motorized personal watercraft means vessels less than 16 feet in length which are designed to be operated by a person or persons sitting, standing, or kneeling on the craft, rather than within the confines of a hull.

(c) Regulations—(1) Regulated navigation areas. The regulations in paragraph (c)(1) apply to the area in paragraphs (a)(1) and (a)(2) of this section.

(i) All vessels and persons entering and transiting through the regulated navigation area must proceed continuously and at a minimum safe speed. In no instance should minimum safe speed be interpreted as a speed less than that required for a particular vessel to maintain steerageway. Nothing in this rule alleviates vessels or operators from complying with all state and local laws in the area.

(ii) All vessels and persons must comply with orders from the Coast Guard Captain of the Port, Jacksonville, Florida, or that officer's designated representatives, regulating their speed, course, direction and movements within the regulated navigation areas.

(2) Security zones. The regulations in this paragraph apply to the zones in paragraph (a)(3) through (a)(6) of this section. All vessels that seek entry to the zones, and those vessels that are located in the zones when the zones become effective, will be subject to a security screening. Vessel operators must receive express permission to enter, or, for vessels already inside the zone when it becomes effective, permission to remain in the security zone from federal, state or local personnel designated by the Captain of the Port; vessels must not transport or possess certain dangerous cargo as defined in 33 CFR 160.204; and persons must not operate or place in the water jet skis or other motorized personal watercraft at any time while the security zone is in effect. Entry into and continued presence within the security zones by vessels or persons that entered without authorization from the Captain of the Port is prohibited unless authorized by the Coast Guard Captain of the Port, Jacksonville, Florida, or that officer's designated representatives. Vessels moored, docked or anchored in the security zones when they become effective must remain in place unless ordered by or given permission from the COTP to do otherwise. Security Zone (a)(5) further prohibits vessel movement within the zone without prior approval by the Captain of the Port or his designated representatives. Vessels or persons desiring to enter or transit the areas encompassed by any of the security zones may contact the Coast Guard Captain of the Port or his designated representatives on VHF Channel Marine 12 to seek permission to enter or transit the zone. If permission is granted, all persons and vessels must comply with the instructions of the COTP or that officer's designated representatives.

(d) Effective period. This section is effective from 6 a.m. on February 2, 2004, until 11:59 p.m. on February 7, 2005.

Dated: November 26, 2004.
David B. Peterman,
Rear Admiral, U.S. Coast Guard, Commander, Seventh Coast Guard District.

[FR Doc. 04-27100 Filed 12-9-04; 8:45 am]

BILLING CODE 4910-15-P